DEPARTMENT OF HOMELAND SECURITY

Coast Guard

33 CFR Part 117

[CGD05-04-166]

RIN 1625-AA-09

Drawbridge Operation Regulations; Delaware River, NJ

AGENCY: Coast Guard, DHS.

ACTION: Notice of temporary deviation from regulations.

SUMMARY: The Commander, Fifth Coast Guard District, has approved a temporary deviation from the regulations governing the operation of the Delair Railroad Bridge across the Delaware River mile 104.5, between Philadelphia, PA, and Delair, NJ. This deviation allows the drawbridge to remain in the closed-to-navigation position from 8 a.m. to 4 p.m., on nine consecutive Mondays on September 27 through November 22, 2004, to facilitate replacement of bridge timbers.

DATES: This deviation is effective from 8 a.m. on September 27, 2004, to 4 p.m. on November 22, 2004.

FOR FURTHER INFORMATION CONTACT: Bill Brazier, Bridge Management Specialist, Fifth Coast Guard District, at (757) 398-6422.

SUPPLEMENTARY INFORMATION: New Jersey Transit, who operates their trains and controls the signaling system at the Delair Railroad Bridge, has requested a temporary deviation from the operating regulation to facilitate needed replacement of bridge timbers.

To facilitate this replacement, the vertical lift-span will be locked in the closed-to-navigation position from 8 a.m. to 4 p.m. on nine consecutive Mondays: on September 27; on October 4, 11, 18, and 25; and on November 1, 8, 15, and 22, 2004. During these stages, the work requires completely immobilizing the operation of the vertical-lift span in the closed-to-navigation position. At all other times, the bridge will operate in accordance with the current operating regulations outlined in 33 CFR 117.716.

The Coast Guard has informed the known users of the waterway of the closure periods for the bridge so that these vessels can arrange their transits to minimize any impact caused by the temporary deviation.

The District Commander has granted temporary deviation from the operating requirements listed in 33 CFR 117.35 for the purpose of repair completion of the drawbridge. The temporary deviation allows the Delair Railroad Bridge across the Delaware River mile 104.5, between Philadelphia, PA and Delair, NJ, to remain closed to navigation from 8 a.m. to 4 p.m. on nine consecutive Mondays: on September 27; on October 4, 11, 18, and 25; and on November 1, 8, 15, and 22, 2004.

Dated: September 20, 2004.
Waverly W. Gregory, Jr.,
Chief, Bridge Administration Branch, Fifth Coast Guard District.

[FR Doc. 04-21526 Filed 9-23-04; 8:45 am]

BILLING CODE 4910-15-P